DEPARTMENT OF VETERANS AFFAIRS

[OMB Control No. 2900-0209]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before May 15, 2006.

For Further Information or a Copy of the Submission Contact: Denise McLamb, Records Management Service (005E3), Department of Veterans Affairs, 810 Vermont Avenue, NW., Washington, DC 20420, (202) 565-8374, FAX (202) 565-6950 or e-mail: denise.mclamb@mail.va.gov. Please refer to “OMB Control No. 2900-0209.”

Send comments and recommendations concerning any aspect of the information collection to VA's OMB Desk Officer, OMB Human Resources and Housing Branch, New Executive Office Building, Room 10235, Washington, DC 20503, (202) 395-7316. Please refer to “OMB Control No. 2900-0209” in any correspondence.

SUPPLEMENTARY INFORMATION: Titles:

a. Application for Work-Study Allowance (Chapters 30, 31, 32 or 35, Title 38, U.S.C.; Chapter 1606 and 1607), VA Form 22-8691.

b. Student Work-Study Agreement (Student Services), VA Form 22-8692.

c. Extended Student Work-Study Agreement, VA Form 22-8692a.

d. Work-Study Agreement (Student Services), VA Form 22-8692b.

OMB Control Number: 2900-0209.

Type of Review: Revision of a currently approved collection.

Abstract:

a. Eligible veterans, reservists, and survivors or dependents complete VA Form 22-8691 to apply for work-study benefits.

b. VA Form 22-8692 is used by claimants to request an advance payment of work-study allowance.

c. VA Form 22-8692a is used by the claimant to extend his or her work-study contract.

d. VA Form 22-8692b is used by claimants who do not want a work-study advanced allowance payment.

VA uses the data collected to determine the applicant's eligibility for work-study allowance and the amount payable.

An agency may not conduct or sponsor, and a person is not required to respond to a collection of information unless it displays a currently valid OMB control number. The Federal Register Notice with a 60-day comment period soliciting comments on this collection of information was published on January 19, 2006 at page 3155.

Affected Public: Individuals or households.

Estimated Annual Burden: 11,984.

a. Application for Work-Study Allowance (Chapters 30, 31, 32 or 35, Title 38, U.S.C.; Chapter 1606 and 1607), VA Form 22-8691—9,125 hours.

b. Student Work-Study Agreement (Student Services), VA Form 22-8692—1,167 hours.

c. Extended Student Work-Study Agreement, VA Form 22-8692a—275 hours.

d. Work-Study Agreement (Student Services), VA Form 22-8692b—1,417 hours.

Estimated Average Burden Per Respondent:

a. Application for Work-Study Allowance (Chapters 30, 31, 32 or 35, Title 38, U.S.C.; Chapter 1606 and 1607), VA Form 22-8691—15 minutes.

b. Student Work-Study Agreement (Student Services), VA Form 22-8692—5 minutes.

c. Extended Student Work-Study Agreement, VA Form 22-8692a—3 minutes.

d. Work-Study Agreement (Student Services), VA Form 22-8692b—5 minutes.

Frequency of Response: Semi-Annually.

Estimated Number of Respondents: 73,000.

a. Application for Work-Study Allowance (Chapters 30, 31, 32 or 35, Title 38, U.S.C.; Chapter 1606 and 1607), VA Form 22-8691—36,500.

b. Student Work-Study Agreement (Student Services), VA Form 22-8692—14,000.

c. Extended Student Work-Study Agreement, VA Form 22-8692a—5,500.

d. Work-Study Agreement (Student Services), VA Form 22-8692b—17,000.

Dated: March 30, 2006.
By direction of the Secretary:
Denise McLamb,
Program Analyst, Records Management Service.

[FR Doc. E6-5435 Filed 4-12-06; 8:45 am]

BILLING CODE 8320-01-P